DEPARTMENT OF HEALTH AND HUMAN SERVICES

Health Resources and Services Administration

Children's Hospitals Graduate Medical Education Payment Program: Updated Methodology To Determine Full-Time Equivalent Resident Count

AGENCY: Health Resources and Services Administration (HRSA), Department of Health and Human Services.

ACTION: Final response.

SUMMARY: HRSA published a notice in the Federal Register on December 30, 2024, soliciting feedback for a proposed update to the Children's Hospitals Graduate Medical Education (CHGME) Payment Program's method of determining an eligible children's hospital's (as defined within the Public Health Service Act) weighted allopathic and osteopathic full-time equivalent (FTE) resident count when this count exceeds its direct graduate medical education (GME) FTE resident cap. This proposed change is being made to be consistent with the methodology used by the Centers for Medicare & Medicaid Services (CMS) consistent with CHGME Payment Program's long-standing practice of using the same methodology in calculating FTE counts as CMS does in Medicare GME and to minimize administrative burden on hospital who participate in both programs. This notice summarizes and responds to the comments received during the 30-day comment period.

DATES: The proposed update to the CHGME direct GME methodology will be implemented beginning in the fiscal year (FY) 2026 application cycle.

FOR FURTHER INFORMATION CONTACT: Robyn Duarte, Public Health Analyst, Bureau of Health Workforce, Division of Medicine and Dentistry, HRSA, 5600 Fishers Lane, Rockville, MD 20857, RDuarte1@hrsa.gov.

SUPPLEMENTARY INFORMATION: On December 30, 2024, through a Federal Register Notice, HRSA announced a 30-day public comment period to solicit input on the proposed updated direct GME methodology. Starting in FY 2026, where both a CHGME participating hospital's unweighted and weighted allopathic and osteopathic FTE resident counts exceed the FTE resident cap, the respective weighted allopathic and osteopathic FTE resident count is adjusted to equal the FTE resident cap. Where the weighted allopathic and osteopathic FTE resident count does not exceed the FTE resident cap, then the adjusted weighted allopathic and osteopathic FTE resident count is the actual weighted allopathic and osteopathic FTE resident count.

This proposed update to the methodology is intended to reconcile weighted FTE resident counts reported in Lines 4.13 (both Hospital Data columns), 5.13, and 6.13 of the HRSA Form 99-1 with Lines 9 and 22 of the CMS Form 2552-10, Worksheet E-4, respectively. Entries in Lines 4.13 (both Hospital Data columns), 5.13, and 6.13 report the weighted resident FTE count for allopathic and osteopathic programs following application of the direct GME FTE resident cap.

This updated methodology may result in adjustments to the weighted FTE resident 3-year rolling average used to determine direct medical education payment amounts for the eligible children's hospitals participating in the CHGME Payment Program.

HRSA received seven comments in response to the Federal Register notice. HRSA carefully reviewed and considered the comments it received and has synthesized and summarized the comments below.

Alignment of CHGME and CMS Direct GME Policy

Summary of Comments

Commenters supported the adoption of CMS' finalized new methodology for applying the direct GME FTE resident cap when a hospital's weighted allopathic and osteopathic FTE resident count is greater than its direct GME FTE resident cap because the proposed updated CHGME methodology provides an opportunity for CHGME participating children's hospitals to determine an increased number of weighted allopathic and osteopathic FTE residents and mirrors CMS' newly finalized methodology.

Response

HRSA agrees the adoption of CMS' modified direct GME payment methodology with respect to determining the number of weighted allopathic and osteopathic FTE residents (i.e., fellows) for all eligible children's hospitals participating in the CHGME Payment Program beginning in FY 2026 will ensure that a participating children's hospital that trains more fellows than included in its direct GME FTE resident cap does not have its GME FTE resident cap reduced and minimize burden for children's hospitals participating in the CHGME Payment Program that must also comply with CMS regulations.

Impact of Updated CHGME Direct GME Policy

Summary of Comments

Commenters acknowledged CHGME's adoption of the new methodology will result in changes to weighted allopathic and osteopathic FTE resident counts and subsequent CHGME payments. Commenters stated that due to the CHGME payment structure, the updated methodology will affect each CHGME participating children's hospital's payments differently, and an increase for one hospital may result in changes to other hospitals' payments, and therefore the actual impact on individual children's hospital's payments is unclear.

Response

HRSA cannot estimate payments until all the participating children's hospitals submit their application data and a final appropriation is provided, but acknowledges final payment amounts may be affected. The direct medical education and indirect medical education payments allocated to eligible children's hospitals are a function of the number of resident FTEs participating in approved medical residency programs (including the 3-year rolling average of weighted resident FTE counts), inpatient discharges, case mix index, and the number of inpatient available beds, as reported by children's hospitals in their applications for CHGME Payment Program funding, as well as the total funding appropriated for the program. Each of the payments is determined by a legislative payment formula, and a hospital receives its proportion of the total CHGME funding based on the calculation of the formula.

The new method of calculating weighted allopathic and osteopathic FTE resident counts may result in adjustments to the weighted FTE resident 3-year rolling average used to calculate CHGME direct medical education payments for the 59 children's hospitals currently participating in the program. These adjustments are due to an increase in the number of FTE residents credited to those hospitals that had previously reported weighted allopathic and osteopathic FTE residents at less than a 0.50 weighting factor due to the prior direct GME method of calculating weighted allopathic and osteopathic FTE residents. As the payment amount calculated for each hospital is determined by multiple variables including FTE counts, and each hospital receives a share of the total funding available, it is not possible to determine the effect the updated methodology will have on the payment received by each children's hospital.

Conclusion

HRSA thanks the public for their comments. After consideration of the public comments received, HRSA is implementing the modification to its direct GME methodology to adopt the CMS methodology described in the amended 42 CFR 413.79 in whole. HRSA anticipates implementing the updated methodology for determining the weighted allopathic and osteopathic FTE residents starting in the FY 2026 application cycle (project period October 1, 2025, through September 30, 2026).

Starting in FY 2026, where both a CHGME participating hospital's unweighted and weighted allopathic and osteopathic FTE resident counts exceeds the FTE resident cap, the respective weighted allopathic and osteopathic FTE resident count is adjusted to equal the FTE resident cap. Where the weighted allopathic and osteopathic FTE resident count does not exceed the FTE resident cap, then the adjusted weighted allopathic and osteopathic FTE resident count is the actual weighted allopathic and osteopathic FTE resident count.

HRSA will ensure information about the updated methodology is available to the public and provide additional information regarding any future change in direct GME methodology on the CHGME Payment Program website at https://bhw.hrsa.gov/funding/apply-grant/childrens-hospitals-graduate-medical-education. In addition, if any changes to direct GME methodology are made, HRSA plans to address this methodology in a future technical assistance webinar should timing allow. HRSA has historically sought consistency with CMS regulations to minimize the burden for children's hospitals participating in the CHGME Payment Program, which must also comply with CMS regulations. Consistency reduces the potential challenges for CHGME participating hospitals reporting FTE resident counts to Medicare and CHGME.

Thomas J. Engels,
Administrator.

[FR Doc. 2025-09364 Filed 5-23-25; 8:45 am]

BILLING CODE 4165-15-P